DEPARTMENT OF DEFENSE

Defense Threat Reduction Agency; Privacy Act of 1974; Systems of Records

AGENCY: Defense Threat Reduction Agency.

ACTION: Notice to amend a system of records.

SUMMARY: The Defense Threat Reduction Agency is amending a system of records notice to its existing inventory of record systems subject to the Privacy Act of 1974 (5 U.S.C. 552a), as amended.

DATES: This action will be effective without further notice on September 2, 2005, unless comments are received that would result in a contrary determination.

ADDRESSES: Send comments to the Freedom of Information Act/Privacy Act Officer, Defense Threat Reduction, 8725 John J. Kingman Road, Stop 6201, Fort Belvoir, VA 22060-6201.

FOR FURTHER INFORMATION CONTACT: Ms. Brenda Carter at (703) 325-1205.

SUPPLEMENTARY INFORMATION: The Defense Threat Reduction Agency notices for systems of records subject to the Privacy Act of 1974 (5 U.S.C. 552a), as amended, have been published in the Federal Register and are available from the address above.

The specific changes to the record system being amended are set forth below followed by the notice, as amended, published in its entirety. The proposed amendment is not within the purview of subsection (r) of the Privacy Act of 1974, (5 U.S.C. 552a), as amended, which requires the submission of a new or altered system report.

Dated: July 27, 2005.
Jeannette Owings-Ballard,
OSD Federal Register Liaison Officer, Department of Defense.

HDTRA 017

System name:

Voluntary Leave Sharing Program Records (December 14, 1998, 63 FR 68736).

Changes:

System location:

Delete primary location and replace with “Office of Manpower and Personnel, Defense Threat Reduction Agency, 8725 John J. Kingman Road, Fort Belvoir, VA 22060-6201”.

Delete secondary location and replace with “Civilian Personnel Office, Building 20203A, Kirtland Air Force Base, Albuquerque, NM 87115-5000.”

* * * * *

System manager(s) and addresses:

Delete entry and replace with “Chief, Manpower and Personnel, Defense Threat Reduction Agency, 8725 John J. Kingman Road, Fort Belvoir, VA 22060-6201”.

Notification procedure:

Delete address and replace with “General Counsel, Defense Threat Reduction Agency, 8725 John J. Kingman Road, Fort Belvoir, VA 22060-6201”.

Record access procedures:

Delete address and replace with “General Counsel, Defense Threat Reduction Agency, 8725 John J. Kingman Road, Fort Belvoir, VA 22060-6201”.

Contesting record procedures:

Delete “DTRA Instruction 5400.11B” and replace with “DTRA Instruction 5400.11” Delete address and replace with “General Counsel, Defense Threat Reduction Agency, 8725 John J. Kingman Road, Fort Belvoir, VA 22060-6201”.

* * * * *

HDTRA 017

System name:

Voluntary Leave Sharing Program Records.

System location:

Office of Manpower and Personnel, Defense Threat Reduction Agency, 8725 John J. Kingman Road, Fort Belvoir, VA 22060-6201.

Secondary locations: Civilian Personnel Office, Building 20203A, Kirtland Air Force Base, Albuquerque, NM 87115-5000.

Technology Security Directorate, Defense Threat Reduction Agency, 400 Army Navy Drive, Arlington, VA 22202-2884.

Categories of individuals covered by the system:

Individuals who have volunteered to participate in the leave sharing program as either a donor or recipient of annual leave.

Categories of records in the system:

Leave recipient records contain the individual's name, organization, office telephone number, Social Security Number, position title, grade, pay level, leave balances, brief description of the medical or personal hardship which qualifies the individual for inclusion in the leave transfer program, the status of the hardship, and a statement that selected data elements may be used in soliciting donations.

The file may also contain medical or physician certifications and DTRA approvals or denials.

Donor records include the individual's name, organization, office, telephone number, Social Security Number, position title, grade, pay level, leave balances, number of hours being transferred (or donated leave), and, in the case of the transfer program, the designated leave recipient.

Authority for maintenance of the system:

5 U.S.C. 301, Departmental Regulations; 5 U.S.C. 6331 et seq (Leave); 10 U.S.C. 136; 5 CFR part 630; and E.O. 9397 (SSN).

Purpose(s):

The file is used in managing the DTRA Voluntary Leave Sharing Program. The recipient's name, and a brief description of the hardship, if authorized by the recipient, are published internally for solicitation purposes. The Social Security Number is obtained to ensure the transfer of leave from the donor's account to the recipient's account.

Routine uses of records maintained in the system, including categories of users and the purposes of such uses:

In addition to those disclosures generally permitted under 5 U.S.C. 552a(b) of the Privacy Act, these records or information contained therein may specifically be disclosed outside the DoD as a routine use pursuant to 5 U.S.C. 552a(b)(3) as follows:

To the Department of Labor in connection with a claim filed by an employee for compensation due to a job-related injury or illness; where the leave donor and leave recipient are employed by different Federal agencies, to the personnel and finance offices of the Federal agency involved to effectuate the leave transfer.

The ‘Blanket Routine Uses’ set forth at the beginning of DTRA's compilation of systems of records notices apply to this system.

Policies and practices for storing, retrieving, accessing, retaining, and disposing of records in the system:

Storage:

Records are stored in paper and computerized form.

Retrievability:

Retrieved by name or Social Security Number.

Safeguards:

Records are accessed by custodian of the records or by persons responsible for servicing the record system in the performance of their official duties. Records are stored in locked cabinets or rooms, and are controlled by personnel screening and computer software.

Retention and disposal:

Records are destroyed one year after the end of the year in which the file is closed.

System manager(s) and address:

Chief, Manpower and Personnel, Defense Threat Reduction Agency, 8725 John J. Kingman Road, Fort Belvoir, VA 22060-6201.

Notification procedure:

Individuals seeking to determine whether information about themselves is contained in this system should address written requests to the General Counsel, Defense Threat Reduction Agency, 8725 John J. Kingman Road, Fort Belvoir, VA 22060-6201.

Individual should provide full name and Social Security Number.

Record access procedures:

Individuals seeking access to information about themselves contained in this system should address written requests to the General Counsel, Defense Threat Reduction Agency, 8725 John J. Kingman Road, Fort Belvoir, VA 22060-6201. Individual should provide full name and Social Security Number.

Contesting records procedures:

The DTRA rules for accessing records and for contesting contents and appealing initial agency determinations are published in DTRA Instruction 5400.11; 32 CFR part 318; or may be obtained from the General Counsel, Defense Threat Reduction Agency, 8725 John J. Kingman Road, Fort Belvoir, VA 22060-6201.

Record source categories:

Information is provided primarily by the record subject; however, some data may be obtained from personnel and leave records.

Exemptions claimed for the system:

None.

[FR Doc. 05-15353 Filed 8-2-05; 8:45 am]

BILLING CODE 5001-06-P